DEPARTMENT OF HEALTH AND HUMAN SERVICES

Administration for Children and Families

Federal Allotments to State Developmental Disabilities Councils and Protection and Advocacy Formula Grant Programs for Fiscal Year 2005

AGENCY: Administration on Developmental Disabilities (ADD), Administration for Children and Families, Department of Health and Human Services.

ACTION: Notification of fiscal year 2005 Federal allotments to State Developmental Disabilities Councils and Protection and Advocacy Formula Grant programs.

SUMMARY: This notice sets forth Fiscal Year (FY) 2005 individual allotments and percentages of the total appropriation to States administering the State Developmental Disabilities Councils and Protection and Advocacy programs, pursuant to Section 122 and Section 142 of the Developmental Disabilities Assistance and Bill of Rights Act (Act). The allotment amounts are based on the FY 2005 President's Budget request and are contingent on congressional appropriations for FY 2005. If the Congress enacts a different appropriation amount in FY 2005, these allotments will be adjusted accordingly. The State allotments are available on the ADD homepage on the Internet: http://www.acf.hhs.gov/programs/add/.

EFFECTIVE DATE: October 1, 2004.

FOR FURTHER INFORMATION CONTACT: Catherine Wade, Grants Fiscal Management Specialist, Office of Grants Management, Office of Administration, Administration for Children and Families, telephone (202) 401-5798.

SUPPLEMENTARY INFORMATION: Section 122(a)(2) of the Act requires that adjustments in the amounts of State allotments shall be made not more often than annually and that States must be notified no less than six (6) months before the beginning of the fiscal year in which such adjustment is to take effect. The Catalog of Federal Domestic Assistance (CFDA) number is 93.630. In relation to the State Developmental Disabilities Council allotments, the descriptions of service needs were reviewed in the State plans and are consistent with the results obtained from the data elements and projected formula amounts for each State (Section 122(a)(5)).

The Administration on Developmental Disabilities has updated the following data elements for issuance of Fiscal Year 2005 allotments for both of the Developmental Disabilities formula grant programs.

A. The number of beneficiaries in each State and Territory under the Childhood Disabilities Beneficiary Program are from Table 5.J10 of the “Annual Statistical Supplement, 2002, to the Social Security Bulletin” issued by the Social Security Administration;

B. State data on Average Per Capita Income are from Table B—Per Capita Personal Income, 1999-2001 of the “Survey of Current Business,” October, 2002, issued by the Bureau of Economic Analysis, U.S. Department of Commerce. The most recent comparable data for the Territories were obtained from the Department of Commerce September 2002; and

C. State data on Total Population is based on “State Population Estimates: July 1, 2003” issued December 2003 by the U.S. Census Bureau. The State working population (ages 18-64) is based on the “Estimate of Resident Population of the U.S. by Selected Age Groups and Sex, July 1, 2002” issued by the U.S. Census Bureau. Total population estimates for the Territories are based on Census 2000 data issued by the U.S. Census Bureau. The Territories working population is based on “Population and Housing Profile: 2000” issued by the U.S. Census Bureau from Census 2000 data.

Table 1.—FY 2005 Allotments
Administration on Developmental Disabilities
| Developmental disabilities councils | Percentage of total appropriation
Total | $ 73,081,262 | 100.000000
Alabama | 1,315,925 | 1.800633
Alaska | 462,315 | .632604
Arizona | 1,285,145 | 1.758515
Arkansas | 805,462 | 1.102146
California | 6,795,666 | 9.298781
Colorado | 836,106 | 1.144077
Connecticut | 690,715 | .945133
Delaware | 462,315 | .632604
District of Columbia | 462,315 | .632604
Florida | 3,641,185 | 4.982378
Georgia | 1,904,329 | 2.605769
Hawaii | 462,315 | .632604
Idaho | 462,315 | .632604
Illinois | 2,669,813 | 3.653211
Indiana | 1,514,002 | 2.071669
Iowa | 774,177 | 1.059337
Kansas | 621,286 | .850130
Kentucky | 1,225,694 | 1.677166
Louisiana | 1,385,313 | 1.895579
Maine | 462,315 | .632604
Maryland | 1,026,488 | 1.404584
Massachusetts | 1,367,725 | 1.871513
Michigan | 2,540,965 | 3.476904
Minnesota | 1,041,526 | 1.425161
Mississippi | 948,925 | 1.298452
Missouri | 1,385,181 | 1.895398
Montana | 462,315 | .632604
Nebraska | 462,315 | .632604
Nevada | 462,315 | .632604
New Hampshire | 462,315 | .632604
New Jersey | 1,589,253 | 2.174638
New Mexico | 521,855 | .714075
New York | 4,263,616 | 5.834075
North Carolina | 1,989,293 | 2.722029
North Dakota | 462,315 | .632604
Ohio | 2,891,529 | 3.956594
Oklahoma | 914,772 | 1.251719
Oregon | 785,280 | 1.074530
Pennsylvania | 3,113,657 | 4.260541
Rhode Island | 462,315 | .632604
South Carolina | 1,132,839 | 1.550109
South Dakota | 462,315 | .632604
Tennessee | 1,517,325 | 2.076216
Texas | 4,775,777 | 6.534886
Utah | 602,828 | .824874
Vermont | 462,315 | .632604
Virginia | 1,524,134 | 2.085533
Washington | 1,196,582 | 1.637331
West Virginia | 772,441 | 1.056962
Wisconsin | 1,309,753 | 1.792187
Wyoming | 462,315 | .632604
American Samoa | 240,761 | .329443
Guam | 240,761 | .329443
Northern Mariana Islands | 240,761 | .329443
Puerto Rico | 2,506,931 | 3.430333
Virgin Islands | 240,761 | .329443

Table 2.—FY 2005 Allotments
Administration on Developmental Disabilities
| Protection and advocacy | Percentage of total appropriation
Total | ¹ $37,647,680 | 100.000000
Alabama | 629,286 | 1.671513
Alaska | 365,940 | .972012
Arizona | 587,829 | 1.561395
Arkansas | 388,340 | 1.031511
California | 3,195,668 | 8.488354
Colorado | 414,702 | 1.101534
Connecticut | 378,998 | 1.006697
Delaware | 365,940 | .972012
District of Columbia | 365,940 | .972012
Florida | 1,749,350 | 4.646634
Georgia | 928,659 | 2.466710
Hawaii | 365,940 | .972012
Idaho | 365,940 | .972012
Illinois | 1,281,987 | 3.405222
Indiana | 729,561 | 1.937864
Iowa | 370,786 | .984884
Kansas | 365,940 | .972012
Kentucky | 578,589 | 1.536852
Louisiana | 651,487 | 1.730484
Maine | 365,940 | .972012
Maryland | 496,219 | 1.318060
Massachusetts | 616,816 | 1.638390
Michigan | 1,182,440 | 3.140804
Minnesota | 500,234 | 1.328725
Mississippi | 450,056 | 1.195442
Missouri | 665,060 | 1.766536
Montana | 365,940 | .972012
Nebraska | 365,940 | .972012
Nevada | 365,940 | .972012
New Hampshire | 365,940 | .972012
New Jersey | 766,400 | 2.035716
New Mexico | 365,940 | .972012
New York | 1,953,358 | 5.188522
North Carolina | 977,015 | 2.595153
North Dakota | 365,940 | .972012
Ohio | 1,367,093 | 3.631281
Oklahoma | 438,101 | 1.163687
Oregon | 391,568 | 1.040085
Pennsylvania | 1,444,385 | 3.836584
Rhode Island | 365,940 | .972012
South Carolina | 547,408 | 1.454029
South Dakota | 365,940 | .972012
Tennessee | 728,411 | 1.934810
Texas | 2,235,839 | 5.938849
Utah | 365,940 | .972012
Vermont | 365,940 | .972012
Virginia | 741,878 | 1.970581
Washington | 566,996 | 1.506058
West Virginia | 392,097 | 1.041490
Wisconsin | 626,865 | 1.665083
Wyoming | 365,940 | .972012
American Samoa | 195,775 | .520019
Guam | 195,775 | .520019
Northern Mariana Islands | 195,775 | .520019
Puerto Rico | 1,108,404 | 2.944150
Virgin Islands | 195,775 | .520019
DNA People Legal Services ² | 195,775 | .520019
¹ In accordance with Public Law 106-402, Section 142(a)(6)(A), $768,320 has been withheld to fund technical assistance. The statute provides for spending up to two percent (2%) of the amount appropriated under Section 142 for this purpose. Unused funds will be reallotted in accordance with Section 122(e) of the Act.
² American Indian Consortiums are eligible to receive an allotment under Section 142(a)(6)(B) of the Act.

Dated: March 23, 2004.
Patricia A. Morrissey,
Commissioner, Administration on Developmental Disabilities.

[FR Doc. 04-6873 Filed 3-26-04; 8:45 am]

BILLING CODE 4184-01-P